DEPARTMENT OF THE INTERIOR

National Park Service

[NPS-WASO-NAGPRA-NPS0036496; PPWOCRADN0-PCU00RP14.R50000]

Notice of Intent To Repatriate Cultural Items: The Children's Museum of Indianapolis, Indianapolis, IN

AGENCY: National Park Service, Interior.

ACTION: Notice.

SUMMARY: In accordance with the Native American Graves Protection and Repatriation Act (NAGPRA), The Children's Museum of Indianapolis intends to repatriate certain cultural items that meet the definition of sacred objects and that have a cultural affiliation with the Indian Tribes or Native Hawaiian organizations in this notice. The cultural items were removed from Pine Ridge, South Dakota.

DATES: Repatriation of the cultural items in this notice may occur on or after October 2, 2023.

ADDRESSES: Jennifer Noffze, The Children's Museum of Indianapolis, 3000 N. Meridian Street, Indianapolis, IN 46208, telephone (317) 334-3722, email jenn@childrensmuseum.org.

SUPPLEMENTARY INFORMATION: This notice is published as part of the National Park Service's administrative responsibilities under NAGPRA. The determinations in this notice are the sole responsibility of The Children's Museum of Indianapolis. The National Park Service is not responsible for the determinations in this notice. Additional information on the determinations in this notice, including the results of consultation, can be found in the summary or related records held by The Children's Museum of Indianapolis.

Description

In 1948, Anna Russell donated one tobacco bag to The Children's Museum of Indianapolis. The bag came from Pine Ridge, South Dakota, and it was made sometime between 1880 and 1910. The main body of the bag has a beaded decoration of a red cross on a white field, and the bottom of the bag is decorated with rawhide strips wrapped with quillwork.

In 1937, Mrs. R.S. Foster donated one tobacco bag to The Children's Museum of Indianapolis. The bag came from Pine Ridge, South Dakota, and it was made sometime between 1880 and 1890. The bag is decorated with 14 rows of beadwork and fringes comprised of quill-wrapped tassels ending in metal cones topped by red horsehair tufts, and the bottom of the bag is decorated with red, green, orange, and violet quills wrapped around 26 rawhide slats.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, and expert opinion.

Determinations

Pursuant to NAGPRA and its implementing regulations, and after consultation with the appropriate Indian Tribes and Native Hawaiian organizations, The Children's Museum of Indianapolis has determined that:

• The two cultural items described above are specific ceremonial objects needed by traditional Native American religious leaders for the practice of traditional Native American religions by their present-day adherents.

• There is a relationship of shared group identity that can be reasonably traced between the cultural items and the Oglala Sioux Tribe.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 2, 2023. If competing requests for repatriation are received, The Children's Museum of Indianapolis must determine the most appropriate requestor prior to repatriation. Requests for joint repatriation of the cultural items are considered a single request and not competing requests. The Children's Museum of Indianapolis is responsible for sending a copy of this notice to the Indian Tribe identified in this notice.

Authority: Native American Graves Protection and Repatriation Act, 25 U.S.C. 3003, and the implementing regulations, 43 CFR 10.8, 10.10, and 10.14.

Dated: August 23, 2023.
Melanie O'Brien,
Manager, National NAGPRA Program.

[FR Doc. 2023-18823 Filed 8-30-23; 8:45 am]

BILLING CODE 4312-52-P